DEPARTMENT OF AGRICULTURE

Food Safety and Inspection Service

[Docket No. 00-008N]

National Advisory Committee on Meat and Poultry Inspection

AGENCY: Food Safety and Inspection Service, USDA.

ACTION: Notice of public meeting.

SUMMARY: The National Advisory Committee on Meat and Poultry Inspection (NACMPI) will hold a public meeting on May 16-17, 2000, to review and discuss four issues: (1) The requested changes to the Food Safety and Inspection Service's (FSIS) Hazard Analysis and Critical Control Point (HACCP) regulations—industry petition, (2) the extension of the USDA's meat and poultry inspection program to additional species (including the use of nitrates in non-amenable species), (3) E. coli O157:H7 developments, and (4) Listeria developments. The three subcommittees of the full Committee will also meet on May 16, 2000, to continue working on issues discussed during the full Committee session. All interested parties are welcome to attend the meeting and to submit written comments and suggestions concerning issues the Committee will review and discuss. This notice also informs members of the public as to how they may receive copies of the weekly FSIS Constituent Update, which provides information regarding FSIS policies, procedures, regulations, Federal Register notices, FSIS public meetings, recalls, and other relevant information.

DATES: The full Committee will hold a public meeting on Tuesday and Wednesday, May 16-17, 2000, from 8:30 a.m. to 5:30 p.m. Sub-committees will hold public meetings on May 16, 2000, from 7:00 p.m. to 9:00 p.m.

ADDRESSES: All Committee meetings will take place at the Quality Hotel & Suites, Courthouse Plaza, 1200 North Courthouse Road, Arlington, VA 22201; telephone (703) 524-4000. The full committee will meet in the Jefferson Room. The Subcommittees will meet in the Kennedy, Roosevelt, and Lincoln Rooms. A meeting agenda is available on the FSIS Web Site at http://www.fsis.usda.gov/OPPDE/nacmpi which is a sub-web page of the FSIS Homepage at http://www.fsis.usda.gov. Send written comments, in triplicate, to FSIS Docket Clerk, U.S. Department of Agriculture, Docket #00-008N, Room 102 Cotton Annex, 300 12th Street, SW., Washington, DC 20250-3700. Comments may also be sent by facsimile (202) 205-0381. The comments and the official transcript of the meeting, when they become available, will be kept in the Docket Clerk's office at the address provided above. All comments submitted in response to this notice will be available for public inspection in the Docket Clerk's Office between 8:30 a.m. and 4:30 p.m., Monday through Friday.

FOR FURTHER INFORMATION CONTACT: Michael N. Micchelli at (202) 720-6269, FAX (202) 720-2345, or E-mail michael.micchelli@usda.gov. Persons requiring a sign language interpreter or other special accommodations should notify Mr. Micchelli by April 25, 2000, at the above numbers or e-mail. Information is also available on FSIS Web Site at http://www.fsis.usda.gov/OPPDE/nacmpi.

SUPPLEMENTARY INFORMATION:

Background

On March 22, 1999, the Secretary of Agriculture renewed the charter for the NACMPI. The Committee provides advice and recommendations to the Secretary of Agriculture pertaining to Federal and State meat and poultry inspection programs pursuant to sections 7(c), 24, 205, 301(a)(3), and 301(c) of the Federal Meat Inspection Act and sections 5(a)(3), 5(c), 8(b), and 11(e) of the Poultry Products Inspection Act. The FSIS Administrator is the chairperson of the Committee. Membership of the Committee is drawn from representatives of consumer groups; producers, processors, and marketers from the meat and poultry industry; and State government officials. The current members of the NACMPI are: Magdi Abadir, Cuisine Solutions; Terry Burkhardt, Wisconsin Bureau of Meat Safety and Inspection; Dr. James Denton, University of Arkansas; Caroline Smith-DeWaal, Center for Science in the Public Interest; Nancy Donley, Safe Tables Our Priority; Carol Tucker Foreman, Food Policy Institute, Consumer Federation of America; Dr. Cheryl Hall, Zacky Farms, Inc.; Kathleen Hanigan, Farmland Foods; Dr. Lee C. Jan, Texas Department of Health; Alice Johnson, National Turkey Federation; Dr. Collette Schultz Kaster, Premium Standard Farms; Dr. Daniel E. LaFontaine, South Carolina Meat-Poultry Inspection Department; Michael Mamminga, Iowa Department of Agriculture; Dr. Dale Morse, New York Office of Public Health; Rosemary Mucklow, National Meat Association; Donna Richardson, Howard University Cancer Center; and Gary Weber, National Cattlemen's Beef Association.

The Committee has three subcommittees that deliberate on specific issues and make recommendations to the whole Committee. The Committee makes recommendations to the Secretary of Agriculture.

Members of the public will be required to register before entering the meeting.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, farm, and consumer interest groups, allied health professionals and scientific professionals, and other individuals that have requested to be included. Through these various channels, FSIS is able to provide information to a much broader, more diverse audience. For more information and to be added to the constituent fax list, fax your request to the FSIS Congressional and Public Affairs Office, at (202) 720-5704.

Done at Washington, DC on April 10, 2000.
Thomas J. Billy,
Administrator.

[FR Doc. 00-9273 Filed 4-13-00; 8:45 am]

BILLING CODE 3410-DM-P